DEPARTMENT OF THE INTERIOR

National Park Service

Notice of Meetings for the National Park Service (NPS) Subsistence Resource Commission (SRC) Program Within the Alaska Region

AGENCY: National Park Service, Interior.

SUMMARY: The NPS announces the SRC meeting schedule for the following areas: Aniakchak National Monument, Cape Krusenstern National Monument, Denali National Park, Kobuk Valley National Park, Gates of the Arctic National Park, Lake Clark National Park, and Wrangell-St. Elias National Park. The purpose of each meeting is to develop and continue work on NPS subsistence hunting program recommendations and other related subsistence management issues. Each meeting is open to the public and will have time allocated for public testimony. The public is welcomed to present written or oral comments to the SRC. Each meeting will be recorded and meeting minutes will be available upon request from each Superintendent for public inspection approximately six weeks after each meeting. The NPS SRC program is authorized under Title VIII, Section 808 of the Alaska National Interest Lands Conservation Act, Pub. L. 96-487, to operate in accordance with the provisions of the Federal Advisory Committee Act.

Dates: The Lake Clark National Park SRC meeting will be held on Tuesday, February 12, 2008, from 1 p.m. to 5 p.m., Alaska Standard Time.

Location: Lake Clark National Park and Preserve Visitor Center, Port Alsworth, AK.

FOR FURTHER INFORMATION CONTACT: Ken Adkisson, Subsistence Manager, telephone (907) 443-2522, or Willie Goodwin, Subsistence Manager, and George Helfrich, Superintendent, telephone: (907) 442-3890, at Western Arctic Parklands, P.O. Box 1029, Kotzebue, AK 99752.

Date: The Kobuk Valley National Park SRC meeting will be held on Wednesday, February 27, 2008, from 9 a.m. to 5 p.m., Alaska Standard Time.

Location: U.S. Fish and Wildlife Service Office, Conference Room, Kotzebue, AK.

FOR FURTHER INFORMATION CONTACT: Ken Adkisson, Subsistence Manager, telephone (907) 443-2522, or Willie Goodwin, Subsistence Manager, and George Helfrich, Superintendent, telephone: (907) 442-3890, at Western Arctic Parklands, P.O. Box 1029, Kotzebue, AK 99752

Date: The Gates of the Arctic National Park SRC meeting will be held on Wednesday, February 27, 2008, from 9 a.m. to 5 p.m., Alaska Standard Time.

Location: Sophie Station Hotel, 1717 University Ave. Fairbanks, AK, telephone (907) 479-3650.

FOR FURTHER INFORMATION CONTACT: Dave Krupa, Subsistence Manager, or Greg Dudgeon, Superintendent, telephone: (907) 457-5752, at Gates of the Arctic National Park and Preserve, 4175 Geist Road, Fairbanks, AK 99709.

Date: The Wrangell-St. Elias National Park SRC meeting will be held on Tuesday, March 25, 2008 and Wednesday, March 26, 2008, from 9 a.m. to 5 p.m., Alaska Standard Time.

Location: Mentasta Lake—Katie John School, 6 Mile Main Village Road in Mentasta Lake, AK, telephone (907) 291-2327.

FOR FURTHER INFORMATION CONTACT: Barbara Cellarius, Subsistence Manager, telephone: (907) 822-7236, or Meg Jensen, Superintendent, telephone: (907) 822-5234, at Wrangell-St. Elias National Park and Preserve, P.O. Box 439, Copper Center, AK 99573.

SUPPLMENTARY INFORMATION: SRC meeting locations and dates may need to be changed based on weather or local circumstances. If meeting dates and locations are changed notice of each meeting will be published in local newspapers and announced on local radio stations prior to the meeting dates. The meetings may end early if all business is completed.

The agendas for each meeting include the following:

1. Call to order (SRC Chair).

2. SRC Roll Call and Confirmation of Quorum.

3. SRC Chair and Superintendent's Welcome and Introductions.

4. Review and Approve Agenda.

5. Status of SRC Membership.

6. Election of Chair and Vice Chair (New charter requires annual elections).

7. SRC Member Reports.

8. Superintendent and NPS Staff Reports.

9. Federal Subsistence Board Update (Review Proposals, Board Actions).

10. State of Alaska Board Actions Update.

11. New Business.

A. Collection of shed horns and antlers on NPS lands and their use as handicrafts.

B. Status Report: Gates of the Arctic National Park SRC Hunting Plan Recommendation #20.

12. Agency and Public Comments.

13. SRC Work Session.

14. Set time and place of next SRC meeting.

Adjournment.

Dated: December 13, 2007.
Judith C. Gottlieb,
Associate Regional Director, Subsistence and Partnerships.

[FR Doc. 08-336 Filed 1-25-08; 8:45 am]

BILLING CODE 4312-HE-M